DEPARTMENT OF ENERGY

Federal Energy Regulatory Commission

[Docket No. RP00-482-000]

Reliant Gas Transmission Company; Notice of Technical Conference

May 18, 2001.

On August 15, 2000, Reliant Gas Transmission Company (Reliant) submitted a filing to comply with Order No. 637. Several parties have protested various aspects of Reliant's filing.

Take notice that a technical conference to discuss the various issues raised by Reliant's filing will be held on Thursday, June 7, 2001, at 10 am, in a room to be designated at the offices of the Federal Energy Regulatory Commission, 888 First Street, NE., Washington, DC 20426. Parties protesting aspects of Reliant's filing should be prepared to discuss alternatives.

All interested persons and Staff are permitted to attend.

Linwood A. Watson, Jr.,
Acting Secretary.

[FR Doc. 01-13086 Filed 5-23-01; 8:45 am]

BILLING CODE 6717-01-M